DEPARTMENT OF THE TREASURY

Internal Revenue Service

Superfund Tax on Chemical Substances; Request To Modify List of Taxable Substances; Notice of Filing for Linear Nonyl Tri-Mellitate

AGENCY: Internal Revenue Service (IRS), Treasury.

ACTION: Notice of filing and request for comments.

SUMMARY: This notice of filing announces that a petition has been filed requesting that linear nonyl tri-mellitate be added to the list of taxable substances. This notice of filing also requests comments on the petition. This notice of filing is not a determination that the list of taxable substances is modified.

DATES: Written comments and requests for a public hearing must be received on or before July 15, 2025.

ADDRESSES: Commenters are encouraged to submit public comments or requests for a public hearing relating to this petition electronically via the Federal eRulemaking Portal at https://www.regulations.gov (indicate public docket number IRS-2025-0053 or Linear Nonyl Tri-Mellitate) by following the online instructions for submitting comments. Comments cannot be edited or withdrawn once submitted to the Federal eRulemaking Portal. Alternatively, comments and requests for a public hearing may be mailed to: Internal Revenue Service, Attn: CC:PA:01:PR (Notice of Filing for Linear Nonyl Tri-Mellitate), Room 5203, P.O. Box 7604, Ben Franklin Station, Washington, DC 20044. All comments received are part of the public record and subject to public disclosure. All comments received will be posted without change to https://www.regulations.gov, including any personal information provided. You should submit only information that you wish to make publicly available. If a public hearing is scheduled, notice of the time and place for the hearing will be published in the Federal Register.

FOR FURTHER INFORMATION CONTACT: Andrew Clark at (202) 317-6855 (not a toll-free number).

SUPPLEMENTARY INFORMATION:

Request To Add Substance to the List

(a) Overview. A petition was filed pursuant to Rev. Proc. 2022-26 (2022-29 I.R.B. 90), as modified by Rev. Proc. 2023-20 (2023-15 I.R.B. 636), requesting that linear nonyl tri-mellitate be added to the list of taxable substances under section 4672(a) of the Internal Revenue Code (List). The petition requesting the addition of linear nonyl tri-mellitate to the List is based on weight and contains the information detailed in paragraph (b) of this document. The information is provided for public notice and comment pursuant to section 9 of Rev. Proc. 2022-26. The publication of petition information in this notice of filing is not a determination and does not constitute Treasury Department or IRS confirmation of the accuracy of the information published.

(b) Petition Content.

(1) Substance name: Linear nonyl tri-mellitate.

(2) Petitioner: Exxon Mobil Corporation, an exporter of linear nonyl tri-mellitate.

(3) Proposed classification numbers:

(i) HTSUS number: 2917.39.20.00.

(ii) Schedule B number: 2917.39.2000.

(iii) CAS number: 220582-53-6.

(4) Petition filing dates:

(i) Petition filing date for purposes of making a determination: May 1, 2025.

(ii) Petition filing date for purposes of section 11.02 of Rev. Proc. 2022-26, as modified by section 3 of Rev. Proc. 2023-20: July 1, 2022.

(5) Description from petition: Linear nonyl tri-mellitate is a plasticizer used in automotive interiors, as well as wire and cable applications, that require resistance to very high temperatures, migration and extraction resistance over long durations.

Linear nonyl tri-mellitate is produced using ethylene. Taxable chemicals constitute 53.90 percent by weight of the materials used to produce this substance.

(6) Process identified in petition as predominant method of production of substance: Linear nonyl tri-mellitate is produced using an esterification reaction. The linear nonyl tri-mellitate tri-ester is made by reacting primary C9 alcohol with Trimellitic anhydride. The ester is produced by esterification of 3 moles of a linear C9 alcohol and one mole of Trimellitic anhydride in the presence of an acidic catalyst.

By using excess alcohol (up to 30% molar excess of C9 alcohol) and removing the water, the equilibrium is shifted towards the formation of the tri-ester. The reactants are charged into a reactor and heated up. The reaction rate is accelerated by using, for example, tetra-n-butyl titanate introduced at high temperature (140 °C-250 °C), while removing the water formed.

Excess alcohol is distilled from the ester by vacuum prior to neutralization and recycled into subsequent batches. The final ester is purified by neutralizing with a base such as an aqueous solution of sodium carbonate. The remaining excess water is distilled off and the ester is then filtered using filter agents.

The degree of purity of the ester is min 99.0 wt%. The overall formula is C36H60O6 and the molecular weight is 589 g.mol-1, based on the carbon numbers of the alkyl groups, with 9 carbons being the predominant number and the average (>97% C9). The alkyl groups typically have methyl- or ethyl- branching, with on average 0.3 branches per molecule typically found on the 2nd carbon of the alkyl chain closest to the aromatic ring.

The linear C9 alcohol is obtained through hydroformylation of Octene. Octene is obtained through ethylene oligomerization. Hydroformylation is the reaction of Octene at high pressure and temperature in the presence of a catalyst with syngas (a mixture of Carbon monoxide and Hydrogen). An alcohol with one carbon atom higher versus the starting olefin is obtained, hence Octene gives Nonanol. The hydroformylation induces 0.3 branches per molecule predominantly on the 2-postion carbon of the alcohol. Trimellitic anhydride is obtained through air oxidation of 1,2,4-trimethylbenzene.

(7) Stoichiometric material consumption equation, based on process identified as predominant method of production:

12 C2H4 [ethylene] + 3 CO [carbon monoxide] + 6 H2 [hydrogen] + C9H4O5 [trimellitic anhydride] → C36H60O6 [linear nonyl trimellitate] + 2 H2O [water]

(8) Tax rate calculated by Petitioner, based on Petitioner's conversion factors for taxable chemicals used in production of substance:

(i) Tax rate: $5.55 per ton.

(ii) Conversion factors: 0.57 for ethylene.

(9) Public docket number: IRS-2025-0053.

Michael Beker,
Senior Counsel (Energy, Credits, and Excise Tax), IRS Office of Chief Counsel.

[FR Doc. 2025-08712 Filed 5-15-25; 8:45 am]

BILLING CODE 4830-01-P